DEPARTMENT OF HEALTH AND HUMAN SERVICES

Centers for Disease Control and Prevention

Disease, Disability, and Injury Prevention and Control Special Emphasis Panel (SEP): Addressing Global TB Prevention and Control in all Populations and Strengthening Health Facilities, Laboratories, Prisons and Other Community Settings, Funding Opportunity Announcement (FOA) PS11-002; and Addressing TB Control and Lung Health Activities through the Vietnam National Lung Hospital/National TB Program (NLH/NTP), FOA PS11-004, Initial Review

In accordance with Section 10(a)(2) of the Federal Advisory Committee Act (Pub. L. 92-463), the Centers for Disease Control and Prevention (CDC) announces the aforementioned meeting:

Time and Date: 12 p.m.—2 p.m., March 10, 2011 (Closed).

Place: Teleconference.

Status: The meeting will be closed to the public in accordance with provisions set forth in Section 552b(c) (4) and (6), Title 5 U.S.C., and the Determination of the Director, Management Analysis and Services Office, CDC, pursuant to Public Law 92-463.

Matters To Be Discussed: The meeting will include the initial review, discussion, and evaluation of applications received in response to “Addressing Global TB Prevention and Control in all Populations and Strengthening Health Facilities, Laboratories, Prisons And Other Community Settings, FOA PS11-002” and “Addressing TB Control and Lung Health Activities through the Vietnam National Lung Hospital/National TB Program (NLH/NTP), FOA PS11-004, initial review.”

Contact Person for More Information: Gregory Anderson, M.S., M.P.H., Scientific Review Officer, CDC, 1600 Clifton Road, NE., Mailstop E60, Atlanta, Georgia 30333, Telephone: (404) 498-2293.

The Director, Management Analysis and Services Office, has been delegated the authority to sign Federal Register notices pertaining to announcements of meetings and other committee management activities, for both the Centers for Disease Control and Prevention, and the Agency for Toxic Substances and Disease Registry.

Dated: December 13, 2010.
Elaine L. Baker,
Director, Management Analysis and Services Office, Centers for Disease Control and Prevention.

[FR Doc. 2010-31798 Filed 12-16-10; 8:45 am]

BILLING CODE 4163-18-P